DEPARTMENT OF THE INTERIOR

Fish and Wildlife Service

[FWS-R3-R-2012-N260; FXRS1265030000-134-FF03R06000]

Great Lakes Islands Refuges, MI and WI; Final Comprehensive Conservation Plan and Finding of No Significant Impact for Environmental Assessment

AGENCY: Fish and Wildlife Service, Interior.

ACTION: Notice of availability.

SUMMARY: We, the U.S. Fish and Wildlife Service (Service), announce the availability of a final comprehensive conservation plan (CCP) and finding of no significant impact (FONSI) for the environmental assessment (EA) for islands that are part of the National Wildlife Refuge System in Lakes Huron, Michigan, and Superior. The CCP includes Gravel Island, Green Bay, Harbor Island, Huron, and Michigan Islands National Wildlife Refuges (Great Lakes Islands Refuges). In this final CCP, we describe how we intend to manage the refuges for the next 15 years.

ADDRESSES: You will find the final CCP and the EA/FONSI on the planning Web site at http://www.fws.gov/midwest/planning/GreatLakesIslands/index.html. A limited number of hard copies and CD-ROMs are available. You may request one by any of the following methods:

• Email: r3planning@fws.gov. Include “Great Lakes Islands Final CCP” in the subject line of the message.

• U.S. Mail: Conservation Planning, U.S. Fish and Wildlife Service, 5600 American Blvd. West, Suite 990, Bloomington, MN 55437.

FOR FURTHER INFORMATION CONTACT: Gary Muehlenhardt, 612-713-5477.

SUPPLEMENTARY INFORMATION:

Introduction

With this notice, we continue the CCP process for the Great Lakes Islands Refuges, which we began by publishing a notice of intent in the Federal Register (73 FR 76677) on December 17, 2008. The Great Lakes Islands Refuges are comprised of Gravel Island and Green Bay National Wildlife Refuges, Door County, Wisconsin; Harbor Island National Wildlife Refuge, Chippewa County, Michigan; Huron National Wildlife Refuge, Marquette County, Michigan; and Michigan Islands National Wildlife Refuge, Arenac, Alpena, and Charlevoix Counties, Michigan.

For more about the initial process and the history of these refuges, see that notice. We released the draft CCP and EA to the public, announcing and requesting comments in a notice of availability (77 FR 51552) on August 24, 2012. The 30-day comment period ended on September 24, 2012. A summary of public comments and the agency responses is included in the final CCP.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The final CCP may be found at http://www.fws.gov/midwest/planning/GreatLakesIslands/index.html. The final CCP includes detailed information about the planning process, the refuges, issues, and management alternative selected. The Web site also includes an EA and FONSI, prepared in accordance with the National Environmental Policy Act (NEPA) (43 U.S.C. 4321 et seq.). The EA/FONSI includes discussion of three alternative refuge management options. The Service's selected alternative is reflected in the final CCP. The selected alternative would provide for the growth of the island refuges by up to 14,133 additional acres, and more opportunities for compatible recreational use. A detailed description of objectives and actions included in this selected alternative is found in chapter 4 of the final CCP.

Christopher P. Jensen,
Acting Regional Director, Midwest Region, U.S. Fish and Wildlife Service.

[FR Doc. 2013-05900 Filed 3-13-13; 8:45 am]

BILLING CODE 4310-55-P